DEPARTMENT OF JUSTICE

[OMB Number 1140-0076]

Agency Information Collection Activities; Proposed eCollection eComments Requested; Revision of a Previously Approved Collection Relief of Disabilities and Application for Restoration of Explosive Privileges

AGENCY: Bureau of Alcohol, Tobacco, Firearms and Explosives, Department of Justice.

ACTION: 60-day notice.

SUMMARY: The Department of Justice (DOJ), Bureau of Alcohol, Tobacco, Firearms and Explosives (ATF), will be submitting the following information collection request to the Office of Management and Budget (OMB) for review and approval in accordance with the Paperwork Reduction Act of 1995.

DATES: Comments are encouraged and will be accepted for 60 days until February 16, 2016.

FOR FURTHER INFORMATION CONTACT: If you have additional comments especially on the estimated public burden or associated response time, suggestions, or need a copy of the proposed information collection instrument with instructions or additional information, please contact Laurie O' Lena, 3750 Corporal Road, Huntsville, AL 35898 at email or telephone: EROD@atf.gov or (256) 261-7640.

SUPPLEMENTARY INFORMATION: Written comments and suggestions from the public and affected agencies concerning the proposed collection of information are encouraged. Your comments should address one or more of the following four points:

—Evaluate whether the proposed collection of information is necessary for the proper performance of the functions of the Bureau of Alcohol, Tobacco, Firearms and Explosives, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Revision of a currently approved collection.

2. The Title of the Form/Collection: Relief of Disabilities and Application for Restoration of Explosives Privileges.

3. The agency form number, if any, and the applicable component of the Department sponsoring the collection: The form number is 5400.29. The applicable component within the Department of Justice is the Bureau of Alcohol, Tobacco, Firearms and Explosives, in the Explosives Enforcement Branch.

4. Affected public who will be asked or required to respond, as well as a brief abstract:

Primary: Individuals.

Other (if applicable): None.

Abstract: ATF is charged with the responsibility for enforcing Title XI of the Organized Crime Control Act (the Act) of 1970 and the implementing regulations contained at 27 CFR, Part 555. Subtitle C of Public Law 107-296, the Safe Explosives Act, enacted November 25, 2003, amended the Act to give the Director authority to grant relief from disability for any person who is prohibited from shipping, transporting, receiving, or possessing an explosive under section 842(i) of the Act. The regulations at 27 CFR, Section 555.142 state that the Director may grant relief to an applicant if it is established to the satisfaction of the Director that the circumstances regarding the disability and the applicant's record and reputation are such that the applicant will not be likely to act in a manner dangerous to public safety. The ATF Form 5400.29, Application for Restoration of Explosives Privileges, is used by ATF to conduct background investigations on all applicants for restoration of explosives privileges. In an effort to ensure that any person applying for restoration of explosives privileges has a record and reputation such that the applicant will not be likely to act in a manner dangerous to public safety and that the granting of such relief would not be contrary to the public interest, ATF proposes that all applicants complete ATF Form 5400.29.

5. An estimate of the total number of respondents and the amount of time estimated for an average respondent to respond: We estimated that there are a total of 300 respondents associated with this information collection request. We estimate that each respondent will spend approximately 30 minutes completing this form.

6. An estimate of the total public burden (in hours) associated with the collection: Assuming all 300 responses are collected and multiplied by the average 30 minutes needed to complete this form (300 Respondents × .50 hours = 150 hours). The total annual burden hours associated with this request is 150 hours.

If additional information is required contact: Jerri Murray, Department Clearance Officer, United States Department of Justice, Justice Management Division, Policy and Planning Staff, Two Constitution Square, 145 N Street NE., 3E.405B, Washington, DC 20530.

Dated: December 14, 2015.
Jerri Murray,
Department Clearance Officer for PRA, U.S. Department of Justice.

[FR Doc. 2015-31794 Filed 12-17-15; 8:45 am]

BILLING CODE 4410-FY-P